DEPARTMENT OF HEALTH AND HUMAN SERVICES

National Institutes of Health

Office of the Director, National Institutes of Health; Amended Notice of Meeting

Notice is hereby given of a change in the meeting of the Council of Councils, May 29, 2025, 10:00 a.m. to May 29, 2025, 01:55 p.m., National Institutes of Health, 35A, 35 Convent Drive, Bethesda, MD, 20892 which was published in the Federal Register on May 16, 2025, 90 FR 21052, Doc. 08752.

This meeting is being amended to change the meeting and end time from 01:55 p.m. to 02:25 p.m. The meeting is partially closed to the public.

Dated: May 16, 2025.
Bruce A. George,
Program Analyst, Office of Federal Advisory Committee Policy.

[FR Doc. 2025-09164 Filed 5-21-25; 8:45 am]

BILLING CODE 4140-01-P